DEPARTMENT OF COMMERCE

International Trade Administration

[A-821-801]

Solid Urea From the Russian Federation: Extension of Time Limit for Preliminary Results of Antidumping Duty Administrative Review

AGENCY: Import Administration, International Trade Administration, Department of Commerce.

EFFECTIVE DATE: April 2, 2008.

FOR FURTHER INFORMATION CONTACT: Thomas Schauer or Minoo Hatten, AD/CVD Operations Office 5, Import Administration, International Trade Administration, U.S. Department of Commerce, 14th Street and Constitution Avenue, NW, Washington, DC 20230; telephone: (202) 482-0410 and (202) 482-1690, respectively.

SUPPLEMENTARY INFORMATION:

Background

At the request of EuroChem, a Russian producer and exporter of solid urea from the Russian Federation, the Department of Commerce (the Department) initiated an administrative review of the antidumping duty order on solid urea from Russia for the period July 1, 2006, through June 30, 2007. See Initiation of Antidumping and Countervailing Duty Administrative Reviews and Request for Revocation in Part, 72 FR 48613 (August 20, 2007). The preliminary results of this administrative review are currently due no later than April 1, 2008.

Extension of Time Limit for Preliminary Results of Review

Section 751(a)(3)(A) of the Tariff Act of 1930, as amended (the Act), requires the Department to issue the preliminary results of an administrative review of an antidumping duty order within 245 days after the last day of the month in which the anniversary of the date of publication of the order occurs. The Act provides further that, if it is not practicable to complete the review within the 245 days, the Department may extend the 245-day period to 365 days.

We determine that it is not practicable to complete the preliminary results by the current deadline of April 1, 2008. Specifically, we are conducting a concurrent new-shipper review which covers the same entry as is covered by this administrative review and it is not practicable to complete the preliminary results of this review prior to the conclusion of the new-shipper review.

Therefore, in accordance with section 751(a)(3)(A) of the Act and 19 CFR 351.213(h)(2), we are extending the time period for issuing the preliminary results of this review by 120 days to July 30, 2008. The final results of this review continue to be due 120 days after the date of issuance of the preliminary results of the administrative review.

This notice is published in accordance with section 751(751(a)(3)(A) of the Act and 19 CFR 351.213(h)(2).

Dated: March 26, 2008.
Stephen J. Claeys,
Deputy Assistant Secretary for Import Administration.

[FR Doc. E8-6839 Filed 4-1-08; 8:45 am]

BILLING CODE 3510-DS-S